DEPARTMENT OF ENERGY

Federal Energy Regulatory Commission

[Docket No. RP00-225-000]

Equitrans, L.P.; Notice of Proposed Changes in FERC Gas Tariff

March 30, 2000.

Take notice that on March 28, 2000, Equitrans, L.P. (Equitrans) tendered for filing as part of its FERC Gas Tariff, Original Volume No. 1, revised tariff sheets shown on Appendix A to the filing, with a proposed effective date of May 1, 2000.

Equitrans states that the purpose of this filing is correct typographical, grammatical errors, implement consistency in designation of Tariff Sheet Number and Section Number, and change of address, phone number, and facsimile number. Also, Equitrans is reinstating a line from a sentence in Section 6.7 in Rate Schedule 10SS that was inadvertently removed in Docket No. RP96-147.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-8460 Filed 4-5-00; 8:45 am]

BILLING CODE 6717-01-M